NATIONAL AERONAUTICS AND SPACE ADMINISTRATION

[Notice (02-021)]

Aerospace Safety Advisory Panel Meeting

AGENCY: National Aeronautics and Space Administration.

ACTION: Notice of meeting.

SUMMARY: In accordance with the Federal Advisory Committee Act, Pub. L. 92-463, as amended, the National Aeronautics and Space Administration announces a forthcoming meeting of the Aerospace Safety Advisory Panel.

DATES: Thursday, March 7, 2002, 1 p.m. to 3 p.m. Eastern Standard Time.

ADDRESSES: National Aeronautics and Space Administration Headquarters, 300 E Street, SW, Room 9H40, Washington, DC 20546.

FOR FURTHER INFORMATION CONTACT: Mr. David M. Lengyel, Aerospace Safety Advisory Panel Executive Director, Code Q-1, National Aeronautics and Space Administration, Washington, DC 20546, (202) 358-0391.

SUPPLEMENTARY INFORMATION: The Aerospace Safety Advisory Panel will present its annual report to the NASA Administrator. This presentation is pursuant to carrying out its statutory duties for which the Panel reviews, identifies, evaluates, and advises on those program activities, systems, procedures, and management activities that can contribute to program risk. Priority is given to those programs that involve the safety of human flight. The major subjects covered will be: Space Shuttle Program, International Space Station Program, Workforce, Mishap Investigation, Medical Operations, Extravehicular Activity, Aero-Space Technology, and Computer Hardware/Software. The Aerospace Safety Advisory Panel is currently chaired by Mr. Richard D. Blomberg and is composed of nine members and nine consultants. The meeting will be open to the public up to the capacity of the room (approximately 60 persons including members of the Panel).

Members of the public should contact Ms. Vickie Smith on (202) 358-1650 if you plan to attend. Upon arrival, you will be required to sign-in with Security where you will be issued a temporary visitor's badge. While you are in the building, you must be escorted by a NASA employee at all times.

Sylvia K. Kraemer,
Advisory Committee Management Officer, National Aeronautics and Space Administration.

[FR Doc. 02-3393 Filed 2-12-02; 8:45 am]

BILLING CODE 7510-01-P